DEPARTMENT OF THE INTERIOR

U.S. Fish and Wildlife Service

[FWS-R3-ES-2008-N0263; 30120-1113-0000 D2]

Approved Recovery Plan for the Copperbelly Water Snake Northern Distinct Population Segment

AGENCY: Fish and Wildlife Service, Interior.

ACTION: Notice of document availability.

SUMMARY: We, the U.S. Fish and Wildlife Service (Service), announce the availability of the approved recovery plan for the copperbelly water snake (Nerodia erythrogaster neglecta) northern distinct population segment (DPS). The threatened copperbelly water snake northern DPS occurs in Michigan, Ohio, and Indiana. This plan includes specific recovery objectives and criteria to achieve delisting of the species from the Endangered Species Act (Act).

ADDRESSES: You may obtain a copy of the recovery plan by sending a request to Field Supervisor, U.S. Fish and Wildlife Service, Ecological Services Field Office, 2651 Coolidge Road, Suite 101, East Lansing, MI 48823-6316 (printed copies will be available for distribution within 4 to 6 weeks), or download it from the Internet at http://www.fws.gov/endangered/recovery/index.html#plans.

FOR FURTHER INFORMATION CONTACT: Ms. Barbara Hosler, at the above address or by telephone at (517) 351-6326. TTY users may contact Ms. Hosler through the Federal Relay Service at (800) 877-8339.

SUPPLEMENTARY INFORMATION:

Background

Recovery of endangered or threatened animals and plants to the point where they are again secure, self-sustaining members of their ecosystems is a primary goal of our endangered species program. To help guide the recovery effort, we are working to prepare recovery plans for most listed species native to the United States. Recovery plans describe actions considered necessary for the conservation of the species, establish criteria for reclassification or delisting listed species, and estimate time and cost for implementing the measures needed.

The Act (16 U.S.C. 1531 et seq.) requires us to develop recovery plans for listed species unless such a plan will not promote the conservation of a particular species. Section 4(f) of the Act, as amended in 1988, requires us to provide the public notice and an opportunity for public review and comment during recovery plan development. We provided the draft copperbelly water snake recovery plan to the public and solicited comments from September 6, 2007, through November 5, 2007 (72 FR 51242). We considered information received during the public comment period and information from peer reviewers in our preparation of the recovery plan, and also summarized that information in Appendix E of this approved recovery plan.

We listed the copperbelly water snake northern DPS as threatened on January 29, 1997 (62 FR 4183). The northern DPS occurs in Michigan, Indiana, and Ohio, north of 40 degrees north latitude. The current distribution of the copperbelly water snake is limited to only five, very small scattered and isolated populations in south central Michigan, northeastern Indiana, and northwestern Ohio. Surveys indicate that the species is in decline throughout these areas.

Copperbelly water snakes have both wetland and terrestrial habitat requirements. The species is associated with wetland complexes characterized by a preponderance of shallow wetlands, many of which draw down seasonally. Such complexes may predominantly occur as isolated wetlands distributed in a forested upland matrix, floodplain wetlands fed by seasonal flooding, or a combination of both. Fishless wetlands, suitable for high anuran (frog and toad) productivity, are required to provide habitat and a suitable prey base.

The copperbelly water snake northern DPS is threatened by habitat loss and fragmentation, human persecution, inadequate habitat management, and road crossings. The principal limiting factor for this species is the availability of wetland/upland habitat complexes of sufficient size. Individuals move hundreds of meters or more between wetlands and routinely use multiple wetlands over the course of an active season. They also spend substantial periods of time in upland habitat aestivating, foraging, and shedding. Populations may require many hundreds of hectares of contiguous habitat in order to persist.

The principal recovery strategy is to establish and conserve multiple wetland/upland habitat complexes that provide adequate habitat for population persistence. The recovery strategy focuses on targeted habitat restoration and implementation of “best management practices” for land managers. The objective of the recovery plan is to provide a framework for the recovery of copperbelly water snake northern DPS so that protection by the Act is no longer necessary. The copperbelly water snake will be considered for delisting when section 4(a)(1) threat factors under the Act are assessed and when the following criteria are met: (1) Multiple population viability is assured; (2) sufficient habitat is conserved and managed; and (3) significant threats due to lack of suitable management, adverse land features and uses, collection, and persecution have been reduced or eliminated.

We will achieve these criteria through the following actions: (1) Identify and conserve habitat complexes sufficient for recovery; (2) monitor known copperbelly water snake populations and their habitat; (3) improve baseline understanding of copperbelly water snake ecology; (4) develop recovery approaches to enhance recruitment and population size; (5) develop and implement public education and outreach efforts; (6) review and track recovery progress; and (7) develop a plan to monitor copperbelly water snake after it is delisted.

Criteria to reclassify the copperbelly water snake northern DPS to endangered status is also provided. The species will be considered for reclassification from threatened to endangered status when section 4(a)(1) threat factors under the Act are assessed and when either of the following criteria is met: (1) There are no known populations of more than 500 adults, or (2) the cumulative population size is less than 1000 adults.

Authority: Sec. 4(f) of the Endangered Species Act, 16 U.S.C. 1533(f).

Dated: December 5, 2008.
Lynn M. Lewis,
Assistant Regional Director, Ecological Services, Midwest Region.

[FR Doc. E8-30489 Filed 12-22-08; 8:45 am]

BILLING CODE 4310-55-P